DEPARTMENT OF HEALTH AND HUMAN SERVICES

Substance Abuse and Mental Health Services Administration

Fiscal Year (FY) 2002 Funding Opportunities

AGENCY: Substance Abuse and Mental Health Services Administration, HHS.

ACTION: Notice of funding availability.

SUMMARY: The Substance Abuse and Mental Health Services Administration (SAMHSA) Center for Substance Abuse Treatment (CSAT) announces the availability of FY 2001 funds for grants for the following activity. This notice is not a complete description of the activity; potential applicants must obtain a copy of the Guidance for Applicants (GFA), including Part I, Grants to Support the Accreditation of Opioid Treatment Programs (OTPs), and Part II, General Policies and Procedures Applicable to all SAMHSA Applications for Discretionary Grants and Cooperative Agreements, before preparing and submitting an application.

Activity | Application deadline | Est. funds FY 2001 | Est. No. of awards | Project period
Grants to Support Accreditation of Opioid Treatment Programs | December 4, 2001 | $1.6 million | -8 | 3 years

The actual amount available for the award may vary, depending on unanticipated program requirements and the number and quality of applications received. FY 2002 funds for the activity discussed in this announcement were appropriated by the Congress under Public Law No. 106-310. SAMHSA's policies and procedures for peer review and Advisory Council review of grant and cooperative agreement applications were published in the Federal Register (Vol. 58, No. 126) on July 2, 1993.

General Instructions

Applicants must use application form PHS 5161-1 (Rev. 7/00). The application kit contains the two-part application materials (complete programmatic guidance and instructions for preparing and submitting applications), the PHS 5161-1 which includes Standard Form 424 (Face Page), and other documentation and forms. Application kits may be obtained from: National Clearinghouse for Alcohol and Drug Information (NCADI), P.O. Box 2345, Rockville, MD 20847-2345, Telephone: 1-800-729-6686.

The PHS 5161-1 application form and the full text of the activity are also available electronically via SAMHSA's World Wide Web homepage: http://www.samhsa.gov.

When requesting an application kit, the applicant must specify the particular activity for which detailed information is desired. All information necessary to apply, including where to submit applications and application deadline instructions, are included in the application kit.

Purpose: The Substance Abuse and Mental Health Services Administration (SAMHSA), Center for Substance Abuse Treatment (CSAT) announces the availability of fiscal year (FY) 2002 funds for grants to partially subsidize the cost of accreditation of Opioid Treatment Programs (OTPs). The goal of these grants is to reduce the costs of basic accreditation education and accreditation surveys (site visits) for OTPs participating in the accreditation process pursuant to Title 42 of the Code of Federal Regulations (CFR), part 8.

Eligibility: Under Federal regulations, the final rule on Opioid Drugs in Maintenance and Detoxification Treatment of Opiate Addiction (42 CFR part 8), only private nonprofit organizations or State governmental entities, or political subdivisions thereof, which are approved by SAMHSA pursuant to that regulation, may accredit opioid treatment programs. Therefore, awards under this grant program will be made only to organizations that have been approved by SAMHSA as accreditation bodies.

SAMHSA intends to make awards under this program as soon as possible; however, all grant awards must be made prior to September 30, 2002. Therefore, any organization that has not yet applied to SAMHSA for approval as an accreditation body is urged to do so as soon as possible, as review and approval of these applications takes some time.

Such organizations may apply for funding under this grant program prior to, simultaneously with, or after they submit their application for approval as an accreditation body, so long as they submit their application for funding prior to the application due date of December 4, 2001. However, an application for a grant under this program will be considered for funding only after the applicant has been approved as an accrediting body, if such approval occurs prior to September 30, 2002.

Availability of Funds: In FY 2002, approximately $1,600,000 will be available for the total costs (direct and indirect) of 4 to 8 awards.* Awards will be made in annual increments. Actual funding levels will vary depending on the availability of appropriated funds and the number of OTPs which apply to each SAMHSA-approved accreditation body grantee. Grant funding will be awarded in two phases. Phase I funds will be awarded at the beginning of the project period and will include up to $50,000 for one-time project start-up and initial operational costs. Phase II awards for accreditation education and accreditation surveys will depend on the availability of appropriated funds and the number of OTPs accepted by the grantee for the accreditation process.

*This program is being announced prior to the full annual appropriation for fiscal year (FY) 2002 for the Substance Abuse and Mental Health Services Administration's (SAMHSA) programs. Applications are invited based on the assumption that sufficient funds will be appropriated for FY 2002 to permit funding of a reasonable number of applications being hereby solicited. All applicants are reminded, however, that we cannot guarantee sufficient funds will be appropriated to permit SAMHSA to fund any applications. Questions regarding the status of the appropriation of funds should be directed to the Program Contact listed under the “How to Get Help” section in the grant announcement.

Period of Support: An award may be requested for a project period of up to 3 years.

Criteria for Review and Funding: General Review Criteria: Competing applications requesting funding under this activity will be reviewed for technical merit in accordance with established PHS/SAMHSA peer review procedures. Review criteria that will be used by the peer review groups are specified in the application guidance material.

Award Criteria for Scored Applications: Applications will be considered for funding on the basis of their overall technical merit as determined through the peer review group and the appropriate National Advisory Council review process. Availability of funds will also be an award criteria. Additional award criteria specific to the programmatic activity may be included in the application guidance materials.

Catalog of Federal Domestic Assistance Number: 93.230.

Program Contact: For questions concerning program issues, contact: Jacqueline Hendrickson, MSW CSAT/SAMHSA, Rockwall II Building, Suite 740, 5600 Fishers Lane, Rockville, MD 20857, (301) 443-1109, E-mail: jhendric@samhsa.gov

For questions regarding grants management issues, contact: Steve Hudak, Division of Grants Management, OPS/SAMHSA, Rockwall II, 6th floor, 5600 Fishers Lane, Rockville, MD 20857, (301) 443-9666, E-mail: shudak@samhsa.gov

Public Health System Reporting Requirements: The Public Health System Impact Statement (PHSIS) is intended to keep State and local health officials apprised of proposed health services grant and cooperative agreement applications submitted by community-based nongovernmental organizations within their jurisdictions.

Community-based nongovernmental service providers who are not transmitting their applications through the State must submit a PHSIS to the head(s) of the appropriate State and local health agencies in the area(s) to be affected not later than the pertinent receipt date for applications. This PHSIS consists of the following information:

a. A copy of the face page of the application (Standard form 424).

b. A summary of the project (PHSIS), not to exceed one page, which provides:

(1) A description of the population to be served.

(2) A summary of the services to be provided.

(3) A description of the coordination planned with the appropriate State or local health agencies.

State and local governments and Indian Tribal Authority applicants are not subject to the Public Health System Reporting Requirements. Application guidance materials will specify if a particular FY 2001 activity is subject to the Public Health System Reporting Requirements.

PHS Non-use of Tobacco Policy Statement: The PHS strongly encourages all grant and contract recipients to provide a smoke-free workplace and promote the non-use of all tobacco products. In addition, Public Law 103-227, the Pro-Children Act of 1994, prohibits smoking in certain facilities (or in some cases, any portion of a facility) in which regular or routine education, library, day care, health care, or early childhood development services are provided to children. This is consistent with the PHS mission to protect and advance the physical and mental health of the American people.

Executive Order 12372: Applications submitted in response to the FY 2001 activity listed above are subject to the intergovernmental review requirements of Executive Order 12372, as implemented through DHHS regulations at 45 CFR part 100. E.O. 12372 sets up a system for State and local government review of applications for Federal financial assistance. Applicants (other than Federally recognized Indian tribal governments) should contact the State's Single Point of Contact (SPOC) as early as possible to alert them to the prospective application(s) and to receive any necessary instructions on the State's review process. For proposed projects serving more than one State, the applicant is advised to contact the SPOC of each affected State. A current listing of SPOCs is included in the application guidance materials. The SPOC should send any State review process recommendations directly to: Division of Extramural Activities, Policy, and Review, Substance Abuse and Mental Health Services Administration, Parklawn Building, Room 17-89, 5600 Fishers Lane, Rockville, Maryland 20857.

The due date for State review process recommendations is no later than 60 days after the specified deadline date for the receipt of applications. SAMHSA does not guarantee to accommodate or explain SPOC comments that are received after the 60-day cut-off.

Dated: October 17, 2001.
Richard Kopanda,
Executive Officer, SAMHSA.

[FR Doc. 01-26654 Filed 10-22-01; 8:45 am]

BILLING CODE 4162-20-P